DEPARTMENT OF TRANSPORTATION

Federal Aviation Administration

14 CFR Part 39

[Docket No. FAA-2014-0039; Directorate Identifier 2013-SW-058-AD; Amendment 39-17737; AD 2014-02-09]

RIN 2120-AA64

Airworthiness Directives; Eurocopter France (Eurocopter) Helicopters

AGENCY: Federal Aviation Administration (FAA), Department of Transportation (DOT).

ACTION: Final rule; request for comments.

SUMMARY: We are adopting a new airworthiness directive (AD) for Eurocopter Model EC225LP and AS332L1 helicopters with emergency floatation gear. The AD requires, before the next overwater flight, inspecting the strap installation on the hinged rods of the emergency flotation gear on both rear cradles for correct installation. If a strap is installed under the hinged rod median plate rather than over it, reinstalling the strap is required. The AD is prompted by incorrect routing of the straps on the hinged rods of the emergency flotation gear rear cradles. The actions are intended to detect incorrect strap installation and prevent failure of the rods or straps upon deployment of the emergency flotation gear, incorrect float position, and subsequent capsizing of the helicopter.

DATES: This AD becomes effective February 24, 2014.

The Director of the Federal Register approved the incorporation by reference of certain documents listed in this AD as of February 24, 2014.

We must receive comments on this AD by April 8, 2014.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov or in person at the Docket Operations Office between 9 a.m. and 5 p.m., Monday through Friday, except Federal holidays. The AD docket contains this AD, the European Aviation Safety Agency (EASA) AD, any incorporated by reference service information, the economic evaluation, any comments received, and other information. The street address for the Docket Operations Office (telephone 800-647-5527) is in the ADDRESSES section. Comments will be available in the AD docket shortly after receipt.

For service information identified in this AD, contact American Eurocopter Corporation, 2701 N. Forum Drive, Grand Prairie, TX 75052; telephone (972) 641-0000 or (800) 232-0323; fax (972) 641-3775; or at http://www.eurocopter.com/techpub. You may review the referenced service information at the FAA, Office of the Regional Counsel, Southwest Region, 2601 Meacham Blvd., Room 663, Fort Worth, Texas 76137.

FOR FURTHER INFORMATION CONTACT: Gary Roach, Aviation Safety Engineer, Regulations and Policy Group, Rotorcraft Directorate, FAA, 2601 Meacham Blvd., Fort Worth, Texas 76137; telephone (817) 222-5110; email gary.b.roach@faa.gov.

SUPPLEMENTARY INFORMATION:

Comments Invited

This AD is a final rule that involves requirements affecting flight safety, and we did not provide you with notice and an opportunity to provide your comments prior to it becoming effective. However, we invite you to participate in this rulemaking by submitting written comments, data, or views. We also invite comments relating to the economic, environmental, energy, or federalism impacts that resulted from adopting this AD. The most helpful comments reference a specific portion of the AD, explain the reason for any recommended change, and include supporting data. To ensure the docket does not contain duplicate comments, commenters should send only one copy of written comments, or if comments are filed electronically, commenters should submit them only one time. We will file in the docket all comments that we receive, as well as a report summarizing each substantive public contact with FAA personnel concerning this rulemaking during the comment period. We will consider all the comments we receive and may conduct additional rulemaking based on those comments.

Discussion

We are adopting a new AD for Eurocopter Model EC225LP and AS332L1 helicopters. The AD requires, before the next overwater flight, inspecting the strap installation on the hinged rods of the emergency flotation gear for both rear cradles for correct installation. If at least one strap is incorrectly installed, the AD requires reinstalling the strap over the hinged rod median plate rather than under it. The AD is prompted by incorrect routing of the straps on Model EC225LP. Investigation indicates that the maintenance work cards and tasks for Model EC225LP and AS332L1 helicopters are not specific enough to describe the removal or installation of the emergency flotation gear rear cradle assembly, which can lead to incorrect routing of the straps. The maintenance work cards and tasks for other Eurocopter helicopters are more precise about the removal or installation for the rear cradle.

EASA, which is the Technical Agent for the Member States of the European Union, has issued EASA AD No. 2013-0237-E, dated September 26, 2013, to correct an unsafe condition for Eurocopter Model EC225LP helicopters equipped with emergency flotation gear and Model AS332L1 helicopters equipped with emergency flotation gear with Eurocopter Modification (MOD) OP26277. EASA advises of incorrect routing of the straps on the hinged rods of left-hand (LH) side and right-hand (RH) side rear cradles of the emergency flotation gear installation on several recently delivered Model EC225 helicopters. According to EASA, the straps were routed over the median plate of the hinged rod instead of under it. EASA further advises that some Model AS332L1 helicopters (those incorporating MOD OP26277) are equipped with an emergency flotation gear of similar design. EASA states that this condition, if not detected and corrected, could lead to failure of the hinged rods and straps upon deployment of the emergency flotation gear during ditching and consequent unsafe positioning of the rear floats, possibly resulting in a helicopter capsizing. Therefore, the EASA AD requires a one-time inspection of the hinged rods of the emergency flotation gear LH and RH rear cradles and accomplishing applicable corrective actions.

FAA's Determination

These helicopters have been approved by the aviation authority of France and are approved for operation in the United States. Pursuant to our bilateral agreement with France, EASA, its technical representative, has notified us of the unsafe condition described in the EASA AD. We are issuing this AD because we evaluated all information provided by EASA and determined the unsafe condition exists and is likely to exist or develop on other helicopters of these same type designs.

Related Service Information

Eurocopter issued one Emergency Alert Service Bulletin (EASB), Revision 0, dated September 25, 2013, with four different numbers: No. 25.02.76 relates to the FAA type-certificated Model AS332L1 helicopter and to the military Model AS332M1 helicopter. No. 25.01.62 relates to military Model AS532AL and UL helicopters. No. 25A142 relates to the FAA type-certificated Model EC225LP helicopter. No. 25A060 relates to the military Model EC725AP helicopter. The EASB specifies checking the routing of the straps on the hinged rods of the emergency flotation gear LH and RH rear cradles and making the installation compliant if necessary.

AD Requirements

The AD requires before the next overwater flight:

• Inspecting the strap installation on the hinged rods of the emergency flotation gear on both rear cradles for correct installation.

• If any strap is routed under the hinged rod's median plate, reinstalling the strap so that the strap is routed over the median plate.

Costs of Compliance

We estimate that this AD will affect 14 helicopters of U.S. Registry. We estimate that operators may incur the following costs in order to comply with this AD. Labor costs are estimated at $85 per work hour. We estimate 0.25 work-hour to inspect each helicopter for correct installation of the strap for a total of $21 per helicopter and $294 for the fleet. We estimate 0.5 work-hour to correct any improper installation of the straps for a total of $43 per helicopter.

FAA's Justification and Determination of the Effective Date

Providing an opportunity for public comments prior to adopting these AD requirements would delay implementing the safety actions needed to correct this known unsafe condition. The required corrective actions must be done prior to the next overwater flight, which are prohibited until the inspection of the strap for incorrect routing on the hinged rods of the rear cradles of the emergency flotation gear installation is done. Therefore, we find that the risk to the flying public justifies waiving notice and comment period prior to adopting this rule because some of these helicopters are used exclusively for offshore operations.

Since an unsafe condition exists that requires the immediate adoption of this AD, we determined that notice and opportunity for public comment before issuing this AD are impracticable and that good cause exists for making this amendment effective in less than 30 days.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national Government and the States, or on the distribution of power and responsibilities among the various levels of government.

For the reasons discussed, I certify that this AD:

1. Is not a “significant regulatory action” under Executive Order 12866;

2. Is not a “significant rule” under DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2014-02-09 Eurocopter France: Amendment 39-17737; Docket No. FAA-2014-0039; Directorate Identifier 2013-SW-058-AD.

(a) Applicability

This AD applies to Model EC225LP helicopters with emergency flotation gear installed and Model AS332L1 helicopters with emergency flotation gear with Eurocopter Modification OP26277 installed, certificated in any category.

(b) Unsafe Condition

This AD defines the unsafe condition as incorrect routing of a strap under the hinged rod median plate of an emergency flotation gear rear cradle. This condition could result in failure of the rods or straps upon deployment of the emergency flotation gear, incorrect float position, and subsequent capsizing of the helicopter.

(c) Effective Date

This AD becomes effective February 24, 2014.

(d) Compliance

You are responsible for performing each action required by this AD within the specified compliance time unless it has already been accomplished prior to that time.

(e) Required Actions

(1) Before the next overwater flight, inspect each left hand and right hand rear cradle strap on the hinged rods of the emergency flotation gear for correct installation as shown in Photo 1, Figure 1, of Eurocopter Emergency Alert Service Bulletin No. 25A142, Revision 0, dated September 25, 2013 (EASB No. 25A142), for Model EC225LP helicopters or EASB No. 25.02.76, Revision 0, dated September 25, 2013 (EASB No. 25.02.76), for Model AS332L1 helicopters. Both straps must be installed over the hinged rod's median plate.

(2) If any strap is installed under the plate as shown in Photo 2, Figure 1, of EASB No. 25A142 or No. 25.02.76, reinstall each incorrectly routed strap so that each strap is installed over the plate as depicted in Figure 2 and Figure 3 of EASB No. 25A142 or No. 25.02.76, as applicable to your model helicopter.

(f) Special Flight Permits

Special flight permits are prohibited for flights over water.

(g) Alternative Methods of Compliance (AMOCs)

(1) The Manager, Safety Management Group, FAA, may approve AMOCs for this AD. Send your proposal to: Gary Roach, Aviation Safety Engineer, Regulations and Policy Group, Rotorcraft Directorate, FAA, 2601 Meacham Blvd., Fort Worth, Texas 76137; telephone (817) 222-5110; email gary.b.roach@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(h) Additional Information

The subject of this AD is addressed in European Aviation Safety Agency (EASA) AD No. 2013-0237-E, dated September 26, 2013. You may view the EASA AD at http://www.regulations.gov in Docket No. FAA-2014-0039.

(i) Subject

Joint Aircraft Service Component (JASC) Code: 3212 Emergency Flotation Section.

(j) Material Incorporated by Reference

(1) The Director of the Federal Register approved the incorporation by reference of the service information listed in this paragraph under 5 U.S.C. 552(a) and 1 CFR part 51.

(2) You must use this service information as applicable to do the actions required by this AD, unless the AD specifies otherwise.

(i) Eurocopter EASB No. 25.02.76, Revision 0, dated September 25, 2013.

(ii) Eurocopter EASB No. 25A142, Revision 0, dated September 25, 2013.

Note 1 to paragraph (i)(2): Eurocopter EASB No. 25.02.76, Revision 0, dated September 25, 2013, and Eurocopter EASB No. 25A142, Revision 0, dated September 25, 2013, are co-published as one document along with Eurocopter EASB No. 25.01.62, Revision 0, dated September 25, 2013, and Eurocopter ASB No. 25A060, Revision 0, dated September 25, 2013, which are not incorporated by reference.

(3) For Eurocopter service information identified in this AD, contact American Eurocopter Corporation, 2701 N. Forum Drive, Grand Prairie, TX 75052; telephone (972) 641-0000 or (800) 232-0323; fax (972) 641-3775; or at http://www.eurocopter.com/techpub.

(4) You may view this service information at FAA, Office of the Regional Counsel, Southwest Region, 2601 Meacham Blvd., Room 663, Fort Worth, Texas 76137. For information on the availability of this material at the FAA, call (817) 222-5110.

(5) You may view this service information that is incorporated by reference at the National Archives and Records Administration (NARA). For information on the availability of this material at NARA, call (202) 741-6030, or go to: http://www.archives.gov/federal-register/cfr/ibr-locations.html.

Issued in Fort Worth, Texas, on January 10, 2014.
Kim Smith,
Directorate Manager, Rotorcraft Directorate, Aircraft Certification Service.

[FR Doc. 2014-01952 Filed 2-6-14; 8:45 am]

BILLING CODE 4910-13-P